DEPARTMENT OF COMMERCE

National Oceanic and Atmospheric Administration

Marine and Coastal Area-based Management Advisory Committee; Charter Renewal

AGENCY: National Oceanic and Atmospheric Administration (NOAA), Department of Commerce.

ACTION: Notice of renewed charter.

SUMMARY: Notice is hereby given of the two-year renewed charter for the Marine and Coastal Area-based Management Advisory Committee (MCAM), effective on December 6, 2024.

FOR FURTHER INFORMATION CONTACT: Lauren Wenzel, Director, NOAA's National Marine Protected Areas Center, Lauren.Wenzel@noaa.gov, (240) 533-0652; or Heather Sagar, Senior Policy Advisor, NOAA Fisheries, Heather.Sagar@noaa.gov, (301) 427-8019.

SUPPLEMENTARY INFORMATION:

I. Background

The Secretary of Commerce established MCAM in November 2022, to advise the Under Secretary of Commerce for Oceans and Atmosphere (Under Secretary) on science-based approaches to area-based protection, conservation, restoration, and management in coastal and marine areas, including the Great Lakes. The scope of MCAM's advice includes, but is not limited to, efforts consistent with the America the Beautiful initiative, called for by section 216(a) of Executive Order 14008 on Tackling the Climate Crisis at Home and Abroad, as well as other relevant issues that may be requested by the Under Secretary. The MCAM's charter must be renewed every two years from the date of the last renewal.

II. Charter Renewal

In accordance with the Federal Advisory Committee Act, as amended (FACA; 5 U.S.C. 1001 et seq.), the Secretary of Commerce has determined that the renewal of the charter for MCAM is in the public interest. The MCAM will function solely as an advisory body and in compliance with provisions of FACA. Copies of the MCAM's revised charter have been filed with the appropriate committees of the Congress and with the Library of Congress. The charter can be accessed online at https://oceanservice.noaa.gov/ocean/marine-coastal-fac./

John Armor,
Designated Federal Official, Marine and Coastal Area-based Management Advisory Committee; Director, Office of National Marine Sanctuaries, National Ocean Service, National Oceanic and Atmospheric Administration.

[FR Doc. 2024-29294 Filed 12-11-24; 8:45 am]

BILLING CODE 3510-NK-P